DEPARTMENT OF HEALTH AND HUMAN SERVICES

Centers for Disease Control and Prevention

[Program Announcement 03038]

Cooperative Agreement for Development of the National Violent Death Reporting System; Notice of Availability of Funds

A. Authority and Catalog of Federal Domestic Assistance Number

This program is authorized under section 301(a) (42 U.S.C. 241(a)) of the Public Health Service Act and section 391(a) (42 U.S.C. 280b(a)) of the Public Service Health Act, as amended. The catalog of Federal Domestic Assistance number is 93.136.

B. Purpose

The Centers for Disease Control and Prevention (CDC) announces the availability of fiscal year (FY) 2003 funds for a cooperative agreement surveillance program to expand the implementation of the National Violent Death Reporting System (NVDRS) as mandated in FY 2003 Senate appropriations language. NVDRS will assist State governments to understand the extent of the violence problem in their states and to develop and evaluate violence prevention program efforts. This program addresses the “Healthy People 2010” focus area of Injury and Violence Prevention.

In response to Congressional appropriations language in FY 2002, CDC began implementation of NVDRS in six states. The purpose of NVDRS is to generate public health surveillance information at the national, state, and local levels that is more detailed, useful, and timely than is currently available. This information will help develop, inform, and evaluate violence prevention strategies at the state level. The proposed system builds upon a pilot system, the National Violent Injury Statistics System (NVISS) that has been under development since 1999. Additional information on this pilot system can be found at: http://www.NVISS.org.

Measurable outcomes of the program will be in alignment with the following performance goal for the National Center for Injury Prevention and Control (NCIPC): Develop new or improved approaches for preventing and controlling death and disability due to injuries.

C. Eligible Applicants

Assistance will be provided only to the health departments of states or their bona fide agents, including the District of Columbia, the Commonwealth of Puerto Rico, the Virgin Islands, the Commonwealth of the Northern Mariana Islands, American Samoa, Guam, the Federated States of Micronesia, the Republic of the Marshall Islands, the Republic of Palau, and the federally recognized Indian tribal governments. In consultation with states, assistance may be provided to political subdivisions of states. States funded under Program Announcement 02059—Cooperative Agreement for Development of National Violent Death Reporting System (Maryland, Massachusetts, New Jersey, Oregon, South Carolina and Virginia) are not eligible to apply.

The ability to obtain population-based information from core data sets is crucial for the successful development of the NVDRS. Eligible applicants must document, through letters of support and memorandums of agreement/understanding (MOA/MOU), access to information on individual, identifiable decedents from all of the following data sources:

1. Death certificates.

2. Medical examiner and/or coroner records.

3. Police records (Supplemental Homicide Reports at a minimum).

4. Crime laboratory records.

The letters of support must come from the agency authorized to grant access to the specific required data. Each letter must note the most recent year for which data is available to the health department, and note that a MOA/MOU is in place between the applicant and the data agency. The MOA/MOU must provide the applicant access to data while specifying any limitations regarding data use. A copy of the MOA/MOU must accompany each letter of support to confirm access.

Applicants from states that do not have centralized, statewide medical examiner/coroner, or police records must obtain letters of support from the agencies with authority over the four required data sources in three cities or counties within the state, and MOA/MOUs from at least three of the four agencies in each city or county.

Applications that fail to submit all evidence listed above will be considered non responsive and will be returned without review.

Applications will be classified into two categories, “New” and “Experienced.” States with funding from an external source (other than state funds) for any form of violent death reporting or surveillance occurring among adults, defined as 18 years of age or older, will be considered “Experienced.” States with surveillance projects (state or local) funding, such as the Harvard Injury Control Research Center's National Violent Injury Statistics System (NVISS) will be considered “Experienced.” States without any such external funding will be considered as “New” systems. Funds awarded for this program cannot be used to supplant (replace) existing activity funds.

Note: Title 2 of the United States Code section 1611 states that an organization described in section 501(c)(4) of the Internal Revenue Code that engages in lobbying activities is not eligible to receive Federal funds constituting an award, grant or loan.

D. Funding

Availability of Funds

Approximately $2,250,000 is available in FY 2003 to fund approximately eight awards. It is expected that the average award will be $240,000, ranging from $150,000 to $220,000 for states with up to 800 cases of violent death in calendar year 2001 and from $220,000 to $320,000 for states with greater than 800 cases of violent death in 2001. At least one applicant will be funded in each funding range.

“New” and “Experienced” system applications will be evaluated separately; at least one new applicant and one experienced applicant will be funded. It is expected that the awards will begin on or about September 1, 2003 and will be made for a 12-month budget period within a project period of up to five years. Funding estimates may change.

Continuation awards within an approved project period will be made on the basis of satisfactory progress, as evidenced by required reports, and the availability of funds.

Recipient Financial Participation

Matching funds are not required for this program.

E. Program Requirements

In conducting activities to achieve the purpose of this program, the recipient will be responsible for the activities under 1A. or 1B., Recipient Activities, and CDC will be responsible for the activities under 2. CDC Activities.

Recipient Activities

1A. For New Violent Death Reporting Systems

a. Establish an advisory committee that will help in the development of the state violent death reporting system. Membership should include representatives from agencies that control medical examiner/coroner records, death certificates, police records, and crime laboratory data.

b. Establish routine access to uniquely identifiable case information from each of the four critical data sources for deaths occurring on or after 1/01/2004.

c. Use case definition and uniform data elements developed under Program Announcement 02059.

d. Obtain and code data from all core data sources for all cases identified. The means for obtaining data may be conducted by abstraction from the required data sources, electronic transfer or other method(s).

e. Develop procedures to combine information from the data sources. Maintain a unique case ID number.

f. Establish (1) a centralized location for maintaining a secure data storage system that allows for ready access to and retrieval of your collected data and (2) an off-site, backup storage system for all your data.

g. Transmit data free of personal identifiers electronically to CDC using software provided by the CDC. Office of Management and Budget (OMB) clearance for this data collection is pending.

h. Develop a quality assurance program that includes a systematic review of the accuracy, completeness and timeliness of the data collection process. This should include reabstraction of a sample of cases where applicable, and monitoring of time intervals from death to case completion, as well as routine checks to identify duplicate cases.

i. Evaluate the surveillance system annually using standard guidelines. These include: simplicity, flexibility, data quality, acceptability, sensitivity, predictive value positive, representativeness, timeliness, and stability. (See Morbidity and Mortality Weekly Report (MMWR) Recommendations and Reports, “Updated guidelines for evaluating public health surveillance systems,” RR-13, vol. 50, 07/27/2001, found at: http://www.cdc.gov/mmwr/PDF/RR/RR5013.pdf.)

j. Prepare standard reports with aggregated data and distribute them widely.

k. Share information learned from project through presentations, peer-reviewed publications and media events.

l. Participate in a collaborative effort coordinated by the CDC to establish a national violent death reporting system that collects uniform data across states as prescribed in the FY 2002 and FY 2003 appropriations report language. Meetings will be held on a semiannual basis.

Recipient Activities

1B. For Experienced Violent Death Reporting Systems

a. Maintain an advisory committee that will help in the enhancement of the reporting system. The committee should be able to help develop methods for data dissemination and set priorities for helping to develop prevention strategies. The committee should include, at a minimum, representatives from agencies that control the core data sources.

b. Maintain or expand routine access to uniquely identifiable case information from each of the four core data sources for deaths occurring on or after 1/01/2004.

c. Use the case definition and uniform data elements developed under Program Announcement 02059.

d. Use or modify existing procedures that combine information from the data sources. Maintain a unique case ID number.

e. Maintain or modify (1) a centralized location for maintaining a secure data storage system that allows for ready access to and retrieval of all your collected data and (2) an off-site, backup data storage system for all your data.

f. Develop a quality assurance program that includes a systematic review of the accuracy, completeness and timeliness of the data collection process. This should include reabstraction of a sample of cases where applicable and monitoring of time intervals from death to case completion, as well as routine checks to identify duplicate cases.

g. Transmit data free of personal identifiers electronically to CDC using software provided by the CDC. OMB clearance for this data collection is pending.

h. Evaluate the surveillance system annually using standard guidelines. These include: simplicity, flexibility, data quality, acceptability, sensitivity, predictive value positive, representativeness, timeliness, and stability. (See MMWR Recommendations and Reports, “Updated guidelines for evaluating public health surveillance systems,” RR-13, vol. 50, 07/27/2001, found at: http://www.cdc.gov/mmwr/PDF/RR/RR5013.pdf.)

i. Prepare standard reports with aggregated data and distribute them widely.

j. Share information learned from the project through presentations, peer review publications and media events.

k. Participate in a collaborative effort coordinated by the CDC to establish a national violent death reporting system that collects uniform data across states as prescribed in the FY 2002 and FY 2003 appropriations report language. Meetings will be held on a semiannual basis.

Note: “New” recipients may choose to begin data gathering in smaller geographic areas, such as cities, counties or regions rather than beginning statewide. “Experienced” recipients may choose to expand data gathering to a broader geographic area, if not currently statewide. If an applicant chooses to begin collecting data in a portion of the state, the applicant must outline a plan for expansion statewide within the five-year project period.

2. CDC Activities “ Provide national leadership in the development and implementation of NVDRS through the following:

a. Provide a case definition and required uniform data elements to be collected.

b. Provide standardized model software that can be used to store and transmit data to CDC electronically, and provide software updates, as needed.

c. Train recipients on surveillance systems. This includes: data standards, coding, data entry, data editing, quality assurance functions, record tracking, and reporting format.

d. Provide technical assistance in solving problems in all aspects of the system.

e. Review submitted records for quality and completeness and provide feedback to recipients. Work with the recipient to systematically resolve problems of missing or inaccurate data.

f. Prepare an analysis file of final edited data to be shared with the recipient for data analysis and reporting of findings.

g. Prepare standard reports with aggregated data and distribute them widely.

h. Prepare Office of Management and Budget (OMB) package to obtain clearance for data collection.

F. Content

Applications

The Program Announcement title and number must appear in the application. Use the information in the Program Requirements, Other Requirements, and Evaluation Criteria sections to develop the application content. Your application will be evaluated on the criteria listed, so it is important to follow them in laying out your program plan. The narrative should be no more than 30 pages, double-spaced, printed on one side, 1.5-inch left margin, 1-inch top, bottom, and right margins, and Courier New 12-point font. The total number of pages should not exceed 70 pages, including appendices and abstract (MOA/MOUs are not counted in the overall page total.) Applicants that fit into the “Experienced” category are allowed up to an additional five pages (total of 75 pages) for a required appendix that evaluates their current violent death surveillance system according to standard CDC guidelines.

Note: Applicants who do not follow the content guidelines will have the following point reductions to their overall evaluation score: 1 point for more than 30 pages of the narrative; 1 point for use of a font smaller than 12-point; and 1 point for less than specified margins.

The narrative will consist of, Background, Goals and Objectives, Methods, Experience, Capacity and Staffing, Evaluation and Collaboration.

The application should include the following information: (Documentation of access to required data source should be included in the appendices.)

1. A one-page abstract of proposed activities and project outcomes. The abstract should specify the type of applicant (“New” or “Experienced”) and the number of violent deaths category into which the state fits (less than or equal to 800 or greater than 800 deaths.)

2. Background.

3. Goal(s) and Objectives. (Including an outline of a five-year plan with timeline.)

3. Methods.

4. Experience.

5. Capacity and Staffing.

6. Evaluation.

8. Collaboration.

9. Human Subjects.

10. Budget.

11. Appendices.

G. Submission and Deadline

Application Forms

Submit the signed original and two copies of PHS 5161—1 (OMB Number 0920-0428.) Forms are available at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time June 2, 2003. Submit the application to: Technical Information Management—PA03038, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goal stated in the purpose section of this announcement. Measures must be objective and quantitative and must measure the intended outcome. These measures of effectiveness must be submitted with the application and will be an element of evaluation.

Applications which are complete and responsive will be subjected to a preliminary evaluation by a Special Emphasis Panel (SEP) to determine if the application is of sufficient technical and scientific merit to warrant further full review. Priority scores will be assigned by the SEP to the core applications. CDC will withdraw from further consideration applications judged to be noncompetitive.

Each application will be evaluated individually against the following criteria by a Special Emphasis Panel (SEP) appointed by CDC:

1. Methods (25 points)

a. The extent to which the applicant describes the methods used for ascertaining cases and obtaining data from core data sources. This should include a discussion of methods used in motivating reporting sources, ensuring high quality data, and resolving data issues.

b. The extent to which the applicant provides a detailed and clear description of how linkage of records from different sources is, or will be, accomplished.

c. The extent to which the applicant describes how data will be stored in a central location in the state.

d. The extent to which the applicant provides a detailed plan for protecting data from loss and assuring confidentiality where required by state law or regulation.

e. The extent to which the applicant provides evidence that proposed activities are not duplications of existing activities. (Experienced applicants only)

2. Goal(s) and Objectives (15 points)

a. The extent to which the applicant has included goals, which are relevant and consistent with the purpose of the program announcement.

b. The extent to which the objectives are specific, measurable, assigned to specific staff, realistic, and time-phased.

c. The extent to which the applicant has included a five-year plan with timeline. Is it realistic? Does it accomplish the goals and objectives?

3. Experience (15 points)

a. The extent to which the applicant documents experience in accessing, collecting, linking, editing, managing, and analyzing surveillance information from multiple data sets, especially experience with mortality surveillance.

b. The extent to which the applicant provides evidence of experience in injury surveillance, conducting data quality assurance activities, and generating data reports.

4. Capacity and Staffing (15 points)

a. The extent to which the applicant provides evidence of existing staff with expertise in SAS software and database manager, (e.g., Microsoft Access), computer programming skills, and skills in data management and quality assurance, especially involving large complex databases.

b. The extent to which the applicant provides a plan, with position description(s), to hire someone with such skills and expertise. Resumes or curriculum vitae should be included.

c. The extent to which the applicant provides a timetable showing when information regarding the occurrence of a violent death during a given calendar quarter is available to the applicant from each of the four required data sources.

5. Collaboration (15 points)

a. The extent to which the applicant provides evidence of involvement by key stakeholders in the current system or a plan for including key stakeholders in the development of a violent death reporting system.

b. The extent to which the applicant documents the quality and specificity of access to required and optional data sources, e.g., the limitations of that access, the most recent year data are available, the timeliness and availability of data from all core and optional data sources, the duration of access, etc. Information from the letters of support will be considered in this context.

c. The extent to which the applicant provides additional letters of support from potential partners in the project.

d. The extent to which the letters of support document specific contributions of the partner, including but not limited to a description of the precise nature of past and proposed collaborations, products, services, and other activities that will be provided by and to the applicant through the proposed collaboration.

6. Evaluation (10 points)

a. The extent to which the applicant provides a detailed plan for evaluating the surveillance system. The plan should include standard CDC surveillance evaluation measures described above.

b. The extent to which the applicant describes both system and data quality assurance procedures.

7. Background (5 points)

The extent to which the applicant documents the magnitude of the violent death problem in the applicant's state and/or target area.

8. Human Subjects (Not Scored)

The extent to which the applicant adequately addresses the requirements of Title 45 CFR part 46 for the protection of human subjects. Not scored; however, an application can be disapproved if the research risks are sufficiently serious and protection against risks is so inadequate as to make the entire application unacceptable.

9. Budget (Not Scored)

The extent to which the budget request is clearly explained, adequately justified, reasonable, sufficient and consistent with the stated objectives and planned activities. The Budget should include funds for at least two trips to CDC for program related meetings and training.

I. Other Requirements

Technical Reporting Requirements

Provide CDC with original plus two copies of:

1. Interim progress report, due on July 2 of each year. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, due December 29 of each year.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site:

AR-1 Human Subjects Requirements

AR-2 Requirements for Inclusion of Women and Racial and Ethnic Minorities in Research

AR-9 Paperwork Reduction Act Requirements Projects that involve the collection of information from 10 or more persons and that are funded by cooperative agreements will be subject to review and approval by the Office of Management and Budget (OMB.)

AR-10 Smoke-Free Workplace Requirements

AR-11 Healthy People 2010

AR-12 Lobbying Restrictions

AR-13 Prohibition on Use of CDC Funds for Certain Gun Control Activities

AR-21 Small, Minority, Women-Owned Businesses

AR-22 Research Integrity

Executive Order 12372 does not apply to this program.

J. Where To Obtain Additional Information

This and other CDC announcements, the necessary applications, and associated forms can be found on the CDC Web site, Internet address: http://www.cdc.gov.

Click on “Funding” then “Grants and Cooperative Agreements''.

For general questions about this announcement, contact: Technical Information Management, CDC Procurement and Grants Office, 2920 Brandywine Road, Atlanta, GA 30341-4146, Telephone: 770-488-2700.

For business management and budget assistance, contact: Van A. King, Grants Management, Procurement and Grants Office, Centers for Disease Control and Prevention, 2920 Brandywine Road, Atlanta, GA 30341-4146, Telephone: (770) 488-2751, E-mail address: Vking@cdc.gov.

For program technical assistance, contact: Leroy Frazier, Jr., MSPH, CHES, Division of Violence Prevention, National Center for Injury Prevention and Control, Centers for Disease Control and Prevention, 4770 Buford Hwy, NE, MS K60, Atlanta, GA 30341, Telephone number: (770) 488-1507, E-mail address: Lfrazier1@cdc.gov.

Dated: February 24, 2003.
Sandra R. Manning,
CGFM, Director, Procurement and Grants Office, Centers for Disease Control and Prevention.

[FR Doc. 03-4858 Filed 2-28-03; 8:45 am]

BILLING CODE 4163-18-P